DEPARTMENT OF ENERGY

Federal Energy Regulatory Commission

[Docket No. ER01-2390-000]

Huntington Beach Development, L.L.C.; Notice of Issuance of Order

August 23, 2001.

On June 20, 2001, Huntington Beach Development, L.L.C. (Huntington Beach) filed an application seeking authority to sell energy and capacity at market-based rates under the terms of its proposed FERC Electric Tariff No.1. Huntington Beach also sought certain blanket approvals and waivers of the Commission's regulations. In particular, Huntington Beach requested that the Commission grant blanket approval under 18 CFR Part 34 of all future issuances of securities and assumptions of liabilities by Huntington Beach. On August 17, 2001, the Commission issued an Order Conditionally Accepting Market-Based Rate Tariff (Order), in the above-docketed proceeding.

The Commission's August 17, 2001 Order granted the request for blanket approval under Part 34, subject to the conditions found in Ordering Paragraphs (D), (E), and (G).

(D) Within 30 days of the date of issuance of this order, any person desiring to be heard or to protest the Commission's blanket approval of issuances of securities or assumptions of liabilities by Huntington Beach should file a motion to intervene or protest with the Federal Energy Regulatory Commission, 888 First Street, NE., Washington, DC 20426, in accordance with Rules 211 and 214 of the Commission's Rules of Practice and Procedure, 18 C.F.R. §§ 385.211 and 385.214.

(E) Absent a request to be heard within the period set forth in Ordering Paragraph (D) above, Huntington Beach is hereby authorized to issue securities and assume obligations or liabilities as guarantor, indorser, surety, or otherwise in respect of any security of another person; provided that such issue or assumption is for some lawful object within the corporate purposes of Huntington Beach, compatible with the public interest, and reasonably necessary or appropriate for such purposes.

(G) The Commission reserves the right to modify this order to require a further showing that neither the public nor private interests will be adversely affected by continued Commission approval of Huntington Beach's issuances of securities or assumptions of liabilities * * *.

Notice is hereby given that the deadline for filing motions to intervene or protests, as set forth above, is September 17, 2001.

Copies of the full text of the Order are available from the Commission's Public Reference Branch, 888 First Street, NE., Washington, DC 20426. The Order may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-21755 Filed 8-28-01; 8:45 am]

BILLING CODE 6717-01-P